ENVIRONMENTAL PROTECTION AGENCY

[FRL-9213-1]

Notice of a Public Meeting: Stakeholder Meeting Concerning EPA's Long-Term Revisions to the Regulation of Lead and Copper in Drinking Water

AGENCY: Environmental Protection Agency (EPA).

ACTION: Notice.

SUMMARY: The U.S. Environmental Protection Agency (EPA) has convened a regulatory workgroup to evaluate potential long-term revisions to EPA's regulations for the control of lead and copper in drinking water. This set of regulations is known as the Lead and Copper Rule (LCR). EPA is holding a stakeholder meeting to provide information to the public and an opportunity for the public to provide input on potential revisions to the LCR under consideration by the Agency. Discussion topics may include but are not limited to lead service line replacement, actions that could be taken at schools and monitoring procedures and sample site selection. Teleconferencing will be available for individuals unable to attend the meeting in person.

DATES: The public meeting will be held on Thursday, November 4, 2010 (9 a.m. to 4 p.m., Eastern Time (ET)).

ADDRESSES: The meeting will be held at the Pennsylvania Convention Center, 1101 Arch Street, Philadelphia, Pennsylvania 19107-2208.

FOR FURTHER INFORMATION CONTACT: For general inquiries, please contact The Safe Drinking Water Hotline, Telephone (800) 426-4791 or e-mail: hotline-sdwa@epa.gov. For information about this meeting, contact Jerry Ellis, Office of Ground Water and Drinking Water, U.S. Environmental Protection Agency; telephone (202) 564-2766 or by e-mail to ellis.jerry@epa.gov. For those that would like to participate via teleconference, please contact Junie Percy of IntelliTech at (937) 427-4148 ext. 210 or by e-mail to junie.percy@itsysteminc.com for teleconference information.

SUPPLEMENTARY INFORMATION: The Lead and Copper Rule is contained in 40 CFR Part 141, Subpart I. We encourage those planning to attend or participate via teleconference to register for the meeting by calling Junie Percy of IntelliTech at (937) 427-4148 ext. 210 or by e-mail to junie.percy@itsysteminc.com no later than November 1, 2010. There is no charge for attending this public meeting, but seats are limited, so register as soon as possible. Walk-in attendees are allowed, but seating preference will be given to those who have pre-registered. Individual oral comments should be limited to no more than five minutes and it is preferred that only one person present the statement on behalf of a group or organization.

Special Accommodations

For information on access or request for special accommodations for individuals with disabilities, please contact Junie Percy at IntelliTech at (937) 427-4148 ext. 210 or by e-mail to junie.percy@itsysteminc.com Please allow at least five business days prior to the meeting to allow time to process your request.

Dated: October 7, 2010.
Cynthia C. Dougherty,
Director, Office of Ground Water and Drinking Water.

[FR Doc. 2010-25901 Filed 10-13-10; 8:45 am]

BILLING CODE 6560-50-P